DEPARTMENT OF ENERGY

Federal Energy Regulatory Commission

Docket Nos. RP01-236-010, RP00-553-013 and RP00-481-010]

Transcontinental Gas Pipe Line Corporation; Notice of Filing

March 5, 2003.

Take notice that on February 28, 2003, Transcontinental Gas Pipe Line Corporation (Transco), tendered for filing Substitute Original Sheet No. 374F.04 and 3rd Sub Eighth Revised Sheet No. 514 of its FERC Gas Tariff, Third Revised Volume No. 1, which tariff sheets are proposed to be effective April 1, 2003.

Transco states that these tariff sheets are being submitted as revisions to its January 31, 2003, 1Linesm compliance filing.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 10, 2003.

Magalie R. Salas,
Secretary.

[FR Doc. 03-5805 Filed 3-11-03; 8:45 am]

BILLING CODE 6717-01-P